DEPARTMENT OF COMMERCE

International Trade Administration

[A-201-836]

Light-Walled Rectangular Pipe and Tube from Mexico: Final Results of Antidumping Duty Administrative Review; 2011-2012

AGENCY: Enforcement and Compliance, formerly Import Administration, International Trade Administration, Department of Commerce.

SUMMARY: On September 6, 2013, the Department of Commerce (the Department) published the preliminary results of the administrative review of the antidumping duty (AD) order on light-walled rectangular pipe and tube (LWR pipe and tube) from Mexico.¹ The period of review (POR) is August 1, 2011, through July 31, 2012. This review covers two producers or exporters of subject merchandise: Regiomontana de Perfiles y Tubos S.A. de C.V. (Regiopytsa) and Maquilacero S.A. de C.V. (Maquilacero). For the final results, we continue to find that Regiopytsa sold subject merchandise at less than normal value during the POR and that Maquilacero did not. For the final weighted-average dumping margins, see the “Final Results of Review” section below.

¹ See Light-Walled Rectangular Pipe and Tube from Mexico: Preliminary Results and Partial Rescission of Antidumping Duty Administrative Review; 2011-2012, 78 FR 54864 (September 6, 2013) (Preliminary Results), and the accompanying Decision Memorandum (Preliminary Decision Memorandum).

DATES: Effective Date: January 31, 2014.

FOR FURTHER INFORMATION CONTACT: Brian Davis or Ericka Ukrow, AD/CVD Operations, Office VI, Enforcement and Compliance, International Trade Administration, U.S. Department of Commerce, 14th Street and Constitution Avenue NW., Washington, DC 20230; telephone: (202) 482-7924 or (202) 482-0405, respectively.

SUPPLEMENTARY INFORMATION:

Background

On September 6, 2013, the Department published in the Federal Register the Preliminary Results. We invited interested parties to comment on the Preliminary Results. On October 22 and 23, 2013, respectively, the Department received case briefs from Regiopytsa and Maquilacero. No party submitted rebuttal briefs or requested a hearing.

Scope of the Order

The merchandise subject to the order is certain welded carbon-quality light-walled steel pipe and tube, of rectangular (including square) cross section, having a wall thickness of less than 4 mm.² The welded carbon-quality rectangular pipe and tube subject to the order is currently classified under the Harmonized Tariff Schedule of the United States (HTSUS) subheadings 7306.61.50.00 and 7306.61.70.60. While HTSUS subheadings are provided for convenience and customs purposes, our written description of the scope of the order is dispositive.³

² See Memorandum to Paul Piquado, Assistant Secretary for Enforcement and Compliance, through Christian Marsh, Deputy Assistant Secretary for Antidumping and Countervailing Duty Operations, “Issues and Decision Memorandum for the Final Results of the Administrative Review of the Antidumping Duty Order on Light-Walled Rectangular Pipe and Tube from Mexico; 2011-2012,” dated concurrently with these results and hereby adopted by this notice, for a complete description of the scope of the order (Issues and Decision Memorandum).

³ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403, 45405 (August 5, 2008) (Orders).

Tolling of Deadlines

As explained in the memorandum from the Assistant Secretary for Enforcement and Compliance, the Department exercised its discretion to toll deadlines for the duration of the closure of the Federal Government from October 1, through October 16, 2013.⁴ Therefore, all deadlines in this segment of the proceeding were extended by 16 days. If the new deadline falls on a non-business day, in accordance with the Department's practice, the deadline will become the next business day. Accordingly, the revised deadline for the final results of this review is now January 22, 2014.

⁴ See Memorandum for the Record from Paul Piquado, Assistant Secretary for Enforcement and Compliance, “Deadlines Affected by the Shutdown of the Federal Government,” dated October 18, 2013.

Analysis of Comments Received

All issues raised in the case briefs by parties to this administrative review are addressed in the Issues and Decision Memorandum.

The Issues and Decision Memorandum is a public document and is on file in the Central Records Unit (CRU), room 7046 of the main Department of Commerce building, as well as electronically via Enforcement and Compliance's Antidumping and Countervailing Duty Centralized Electronic Service System (IA ACCESS). IA ACCESS is available to registered users at http://iaaccess.trade.gov, and it is available to all parties in the CRU. In addition, a complete version of the Issues and Decision Memorandum can be accessed directly on the internet at http://enforcement.trade.gov/frn/. The signed Issues and Decision Memorandum and the electronic versions of the Issues and Decision Memorandum are identical in content.

Final Results of Review

We have made no changes to our calculations announced in the Preliminary Results. Therefore, as a result of our review, we continue to determine that the following weighted-average dumping margin exists for the period August 1, 2011, through July 31, 2012:

Producer or exporter | Weighted-average dumping margin (percent)
Regiomontana de Perfiles y Tubos S.A. de C.V. | 1.45
Maquilacero S.A. de C.V. | 0.00

Assessment Rates

The Department shall determine and U.S. Customs and Border Protection (CBP) shall assess antidumping duties on all appropriate entries.⁵ Since the weighted-average dumping margin is not zero or de minimis (i.e., less than 0.50 percent) for Regiopytsa, we calculated importer-specific ad valorem duty assessment rates based on the ratio of the total amount of dumping calculated for an importer's examined sales to the total entered value of those same sales in accordance with 19 CFR 351.212(b)(1). Where either a respondent's weighted-average dumping margin is zero or de minimis, or an importer-specific assessment rate is zero or de minimis, we instruct CBP to liquidate the appropriate entries without regard to antidumping duties.

⁵ In these final results, the Department applied the assessment rate calculation method adopted in Antidumping Proceedings: Calculation of the Weighted-Average Dumping Margin and Assessment Rate in Certain Antidumping Proceedings: Final Modification, 77 FR 8101 (February 14, 2012).

The Department clarified its “automatic assessment” regulation on May 6, 2003.⁶ This clarification will apply to entries of subject merchandise during the POR produced by Maquilacero and Regiopytsa for which they did not know that their merchandise was destined for the United States. In such instances, we will instruct CBP to liquidate unreviewed entries at the all-others rate of 3.76 percent, as established in the less-than-fair-value investigation of this proceeding,⁷ if there is no rate for the intermediate company(ies) involved in the transaction.

⁶ See Antidumping and Countervailing Duty Proceedings: Assessment of Antidumping Duties, 68 FR 23954 (May 6, 2003) (Assessment Policy Notice).

⁷ See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403, 45405 (August 5, 2008).

In accordance with 19 CFR 356.8(a), the Department intends to issue assessment instructions to CBP on or after 41 days following the publication of the final results of this review.

Cash Deposit Requirements

The following cash deposit requirements will be effective upon publication of the final results of this administrative review for all shipments of the subject merchandise entered or withdrawn from warehouse for consumption on or after the publication date of these final results, consistent with section 751(a)(2)(C) of the Act: (1) For subject merchandise manufactured and exported by Maquilacero and Regiopytsa, the cash deposit rate will be equal to the weighted-average dumping margins established in the final results of this review; (2) for previously reviewed or investigated companies, the cash deposit rate will continue to be the company-specific rate published from the completed segment for the most recent period; (3) if the exporter is not a firm covered in this review, the prior review, or the investigation but the manufacturer is, then the cash-deposit rate will be the rate established from the completed segment for the most recent period for the manufacturer of the merchandise; and (4) if neither the exporter nor the manufacturer is a firm covered in this review, a previous review or the less-than-fair-value investigation conducted by the Department, then the cash deposit rate will be the all-others rate of 3.76 percent. These deposit requirements, when imposed, shall remain in effect until further notice.

Reimbursement of Duties

This notice also serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Return or Destruction of Proprietary Information

This notice serves as a reminder to parties subject to the administrative protective order (APO) of their responsibility concerning the disposition of proprietary information disclosed under the APO in accordance with 19 CFR 351.305(a)(3). Timely written notification of return or destruction of APO materials or conversion to judicial protective order is hereby requested. Failure to comply with the regulations and the terms of an APO is a sanctionable violation.

These final results of review are issued and published in accordance with sections 751(a)(1) and 777(i)(1) of the Act and 19 CFR 351.213(h).

Dated: January 22, 2014.
Paul Piquado,
Assistant Secretary for Enforcement and Compliance.

Appendix I—List of Topics Discussed in the Issues and Decision Memorandum

1. Authority to Consider an Alternative Comparison Methodology Absent an Allegation of Targeted Dumping

2. Differential Pricing Analysis

3. Arm's-Length Analysis of Certain of Maquilacero's Sales

[FR Doc. 2014-02068 Filed 1-30-14; 8:45 am]

BILLING CODE 3510-DS-P